POSTAL SERVICE

International Product Change—ADPR 1 Contracts

AGENCY: Postal Service™.

ACTION: Notice.

SUMMARY: The Postal Service gives notice of filing a request with the Postal Regulatory Commission to add Alternative Delivery Provider Reseller 1 product to the Competitive Products List.

DATES: Date of notice required under 39 U.S.C. 3642(d)(1): August 23, 2017.

FOR FURTHER INFORMATION CONTACT: Lauren Schuttloffel, (202) 268-4198.

SUPPLEMENTARY INFORMATION: The United States Postal Service® hereby gives notice that, pursuant to 39 U.S.C. 3642, on August 15, 2017, it filed with the Postal Regulatory Commission a Request of the United States Postal Service to Add Alternative Delivery Provider Reseller 1 Contracts to the Competitive Products List, and Notice of Filing (Under Seal) of Contract and Application for Non-Public Treatment of Materials Filed Under Seal. Documents are available at www.prc.gov, Docket Nos. MC2017-170 and CP2017-268.

Stanley F. Mires,
Attorney, Federal Compliance.

[FR Doc. 2017-17826 Filed 8-22-17; 8:45 am]

BILLING CODE 7710-12-P